DEPARTMENT OF HOMELAND SECURITY

FY 2022 Senior Executive Service Performance Review Boards

AGENCY: Office of the Secretary, Department of Homeland Security.

ACTION: Correction notice.

SUMMARY: This notice corrects the October, 25, 2022 notice announcing the appointment of members of the FY 2022 Senior Executive Service (SES) Performance Review Boards (PRBs) for the Department of Homeland Security (DHS). The purpose of the PRBs is to make recommendations to the appointing authority (i.e., Component head) on the performance of senior executives (career, noncareer, and limited appointees), including recommendation on performance ratings, performance-based pay adjustments, and performance awards. The PRBs will also make recommendations on the performance of Transportation Security Executive Service, Senior Level, and Scientific and Professional employees. To make its recommendations, the PRBs will review performance appraisals, initial summary ratings, any response by the employee, and any higher-level official's findings.

DATES: This Notice corrects the notice published on October, 25, 2022 at 87 FR 64513 and is applicable as of October 25, 2022.

FOR FURTHER INFORMATION CONTACT: Christian Fajardo, Human Resources Specialist, Office of the Chief Human Capital Officer, christian.fajardo@hq.dhs.gov, 771-200-0392.

SUPPLEMENTARY INFORMATION: This notice corrects the notice published on October, 25, 2022 at 87 FR 64513, to add a name to the FY 2022 SES PRBs for the Department of Homeland Security (DHS), to read as follows:

In accordance with 5 U.S.C. 4314(c) and 5 CFR 430.311, each agency must establish one or more PRBs to make recommendations to the appointing authority (i.e., Component head) on the performance of its senior executives. Each PRB must consist of three or more members. More than one-half of the membership of a PRB must be SES career appointees when reviewing appraisals and recommending performance-based pay adjustments or performance awards for career appointees. Composition of the specific PRBs will be determined on an ad hoc basis from among the individuals listed below:

List of Names (alphabetical order)

Abdelall, Brenda

Acosta, Juan L

Adamcik, Carol A

Aguilar, Max

Alfonso-Royals, Angelica

Alles, Randolph D

Almeida, Corina

Anderson, Sandra D

Antalis, Casie

Antognoli, Anthony

Armstrong, Gloria R

Baden, Mary

Baidwan, Meant S

Baker, Jeremy D

Baker, Paul E

Baroukh, Nader

Barrera, Staci A

Barrera, Staci E

Barrett, Lawrence R

Basham, Craig

Belcher, Brian C

Berg, Peter

Berg, Peter B

Berger, Katrina W

Bhagowalia, Sanjeev

Bible, Daniel A

Bible, Kenneth

Blackwell, Juliana J

Blessey, Caroline

Bobich, Jeffrey M

Bonner, Bryan

Borka, Robert

Borkowski, Mark S

Boulden, Laurie

Boyd, John

Boyer, Stephen A

Brane, Michelle

Braun, Jacob H

Breitzke, Erik P

Brewer, Julie S

Bright, Andrea J

Brito, Roberto

Brown, Billy

Browne, Rene E

Brundage, William

Bryan, Michelle C

Bucholtz, Kathleen L

Bullock, Edna

Burgess, Kenneth

Burks, Atisha

Burriesci, Kelli A

Bush, William B

Cagen, Steven W

Caine, Jeffrey

Callahan, Mary Ellen

Cameron, Michael K

Canegallo, Kristie

Canevari, Holly E

Canty, Rachel E

Cappello, Elizabeth A

Carnes, Alexandra

Carpio, Philip F

Carraway, Melvin J

Chaleki, Thomas D

Cheatle, Kimberly A

Cheng, Wen-Ting

Clark, Alaina

Clark, Kenneth N

Cleary Stannard, Jennifer S

Cline, Richard K

Cloe, David

Clutter, Mason

Companion, Tod T

Cook, Charles

Cormier, Tracy J

Coronado, Luis

Corrado, Janene M

Cotter, Daniel

Courey, Marc B

Courtney, Paul

Coven, Phyllis

Cox, Adam

Cox, Debra S

Cross, Catherine C

Crumpacker, Jim H

Culliton-Gonzalez, Katherine

Cunningham, John D

Dainton, Albert J

Dargan, John L

Das, Sharmistha

Daskal, Jennifer

Davidson, Michael J

Dawson, Inga I

Dembling, Ross W

DeNayer, Larry C

Di Pietro, Joseph R

DiFalco, Frank J

Dobitsch, Stephanie M

Doran, Thomas J

Dorko, Jeffrey

Dorr, Robert

Doyle, Kerry

Dunbar, Susan C

Dunlap, James

Dupree, Lynn

Eaton, Joseph J

Ederheimer, Joshua A

Edwards, Benjamin R

Eldredge, Deborah N

Ellison, Jennifer

Emerson, Michael D

Emrich, Matthew D

Enriquez Mcdivitt, Mariam

Escobar Carrillo, Felicia A

Espinosa, Marsha

Essaheb, Kamal

Evetts, Mark V

Falk, Scott K

Fenton, Jennifer M

Ferraro, Nina M

Fields, Kathy

Fitzhugh, Peter C

Fitzmaurice, Stacey D

Fitzpatrick, Ronnyka

Flores, Pete R

Fong, Heather

Francis, Steve K

Fujimura, Paul

Gabbrielli, Tina

Gaches, Michael

Gandhi, Pritesh

Gantt, Kenneth D

George, Michael

Gersten, David

Gladwell, Angela R

Glass, Veronica

Gorman, Chad M

Gould, Austin J

Gountanis, John

Granger, Christopher

Grazzini, Christopher

Griggs, Christine

Groom, Molly

Gunter, Brett A

Guzman, Nicole

Habersaat, Mark S

Hall, Christopher J

Harris, Melvin

Harvey, Melanie K

Hatch, Peter

Havranek, John F

Heinz, Todd W

Henderson, Rachelle B

Hess, David A

Higgins, Jennifer B

Highsmith, AnnMarie R

Hinkle-Bowles, Paige

Holzer, James

Hoover, Crinley S

Horton, Michael G

Horyn, Iwona B

Hott Jr., Russell E

Howard, Tammy

Hoy, Serena

Huffman, Benjamine C

Hughes, Clifford T

Hunter, Adam

Huse, Thomas F

Hysen, Eric

Jackson, Arnold D

James, Michele M

Jenkins, Donna

Johnson, James V

Johnson, Tae D

Jones, Eric C

Joves, Alexander

Kahangama, Iranga A

Katz, Evan C

Kaufman, Steven

Kerner, Francine

Kim, Ted

King, Matthew H

King, Tatum S

Klein, Matthew

Koumans, Marnix R

Kronisch, Matthew L

Kuepper, Andrew

Kuhn, Karen A

LaJoye, Darby R

Lambeth, John

Langley, Monica

Lanum, Scott F

Larrimore, David

Laurance, Stephen A

Lawrence, Jamie

Lechleitner, Patrick J

Leckey, Eric

Lee, Grace

Lee, Kimya S

Leonard, John P

Letowt, Philip J

Lewis, James

Loiacono, Adam V

Lotspeich, Katherine

Lugo, Alice

Luke, Adam

Lundgren, Karen E

Lynch, Steven M

Lynum, Kara

Lyon, Shonnie R

Maday, Brian

Magrino, Christopher

Maher, Joseph B

Malik, Irfan

Mapar, Jalal

Marcott, Stacy

Martin, Joseph F

Maurer, Tim

Maykovich, Vincent

McComb, Richard

McCullar, Shannon

McDermott, Thomas

McDonald, Christina E

McDonough, Bryn

McElwain, Patrick J

McEntee, Jonathan

McGough, Daniel

McGovern, Helen Mary

McLane, JoAnn

Meckley, Tammy M

Medina, Yvonne R

Meyer, Joel T

Meyer, Jonathan

Michelini, Dennis J

Miles, John D

Miller, Alice

Miller, Gail

Mina, Peter E

Mitchell, Kathryn C

Moman, Christopher C

Morant, Cardell T

Murphy, Mark

Mussington, David

Myers, Heidi Y

Nally, Kevin J

Navarro, Donna M

Neitzel, Beth

Newman, Robert B

Nunn, Willie

Ocker, Ronald J

O'Connor, Kimberly

Olson, David

Ortiz, Raul L

Padilla, Kenneth

Padilla Jr, Manuel

Palmer, David J

Paramore, Faron K

Paschall, Robert D

Patel, Kalpesh A

Patterson, Leonard E

Pavlik-Keenan, Catrina

Perez, Nelson

Perriott, Harvey

Petit, Nanci

Picarelli, John

Piccone, Colleen C

Pineiro, Marlen

Podonsky, Glenn S

Pohlman, Teresa R

Porto, Victoria

Powell, Jonathan

Price, Corey A

Prosnitz, Susan M

Punteney, James

Quinn, Timothy J

Radgowski, Jeffrey

Raines, Ariana M

Rapp, Marc A

Raymond, John J

Renaud, Daniel M

Renaud, Tracy L

Rezmovic, Jeffrey M

Ritter, David

Roncone, Stephen A

Rosenblum, Marc R

Rowe Jr., Ronald L

Rubino, Jaclyn

Russell, Anthony

Russell, Gabriel

Ryan, Michael P

Rynes, Joel C

Sabatino, Diane J

Sahakian, Diane V

Salazar, Rebecca A

Salazar, Ronald M

Saltalamachea, Michael

Salvano-Dunn, Dana

Scanlon, Julie A

Scardaville, Michael

Scott, Kika M

Scudder, Ryan J

Sequin, Debbie W

Seidman, Ricki

Sejour, Soldenise

Selby, Cara M

Sevier, Adrian

Shearer, Ruth C

Short, Victoria D

Silas, Z. Traci

Siler, Tracy

Silvers, Robert

Singh, Neil S

Skelton, Kerry T

Smislova, Melissa

Smith, David M

Smith, Frederick B

Smith, Stacy M

Solnet, Jeffrey

Stanton, Joshua B

Stephens, Celisa M

Stevenson, Tirelle D

Stiefel, Nathaniel I

Stough, Michael S

Street, Stacey

Stuntz, Shelby

Sulc, Brian

Swartz, Neal J

Sykes, Gwendolyn

Szczech, Gracia

Tabaddor, Afsaneh

Tapscott, Wallicia

Todd, Sarah

Tomney, Christopher J

Toris, Randolph B

Try, Gregory W

Tulis, Dana

Turi, Keith

Valverde, Michael

Van Houten, Ann

Venture, Veronica

Vespe, Erin E

Vinograd, Samantha

Wainstein, Ken

Walters, Thomas J

Washington, Karinda

Wasowicz, John A

Watkins, Tracey L

Watson, Andre R

Wawro, Joseph D

Wells, James

Whalen, Mary Kate

Wheaton, Kelly D

Williams, Marta

Windham, Nicole

Witte, Diane L

Wolfe, Herbert

Wong, Sharon M

Wright, Christopher J

Yarwood, Susan A

Dated: October 25, 2022.
Gregory Ruocco,
Director, Executive Resources, Office of the Chief Human Capital Officer.

[FR Doc. 2022-23557 Filed 10-31-22; 8:45 am]

BILLING CODE 9112-FC-P